DEPARTMENT OF TRANSPORTATION

Office of the Secretary

[Docket No. DOT-OST-2026-0298]

Rural Opportunities To Use Transportation for Economic Success Initiative: Request for Information

AGENCY: Office of the Secretary, Department of Transportation (DOT).

ACTION: Notice; request for information.

SUMMARY: DOT's Rural Opportunities to Use Transportation for Economic Success (ROUTES) Initiative addresses the transportation infrastructure needs of rural and Tribal communities by developing user-friendly tools and information, aggregating DOT resources, and providing direct technical assistance to connect rural and Tribal communities with the funding, financing, and outreach resources available. This notice requests comments on unmet transportation infrastructure needs in rural communities, barriers that rural communities face in addressing those needs, and opportunities for ROUTES to improve its services and technical assistance to support rural and Tribal stakeholders.

DATES: Comments must be received on or before 60 days from posting of this notice. DOT will consider comments filed after this date to the extent practicable.

ADDRESSES: Comments should refer to the docket number above and be submitted by one of the following methods:

• Electronic Submission: Go to http://www.regulations.gov. Search by using the docket number (provided above). Follow the instructions for submitting comments on the electronic docket site.

• Mail: Docket Management Facility, U.S. Department of Transportation, 1200 New Jersey Avenue SE, West Building Ground Floor, Room PL-401, Washington, DC 20590-0001.

• Hand Delivery or Courier: 1200 New Jersey Avenue SE, West Building Ground Floor, Room PL-401, Washington, DC, between 9 a.m. and 5 p.m. ET, Monday through Friday, except Federal Holidays.

Instructions: All submissions must include the agency name and docket number.

Note: All comments received, including any personal information, will be posted without change to the docket and will be accessible to the public at http://www.regulations.gov. You should not include information in your comment that you do not want to be made public. Input submitted online via http://www.regulations.gov is not immediately posted to the site. It may take several business days before your submission is posted.

FOR FURTHER INFORMATION CONTACT: Visit http://www.transportation.gov/rural, or contact the ROUTES Office at rural@dot.gov.

SUPPLEMENTARY INFORMATION:

Background

Rural transportation networks are critical for domestic use and international export, as well as the quality of life for all Americans. Large volumes of freight either originate in rural areas or are transported through rural areas via the nation's highways, railways, airways, waterways, and pipelines to support the American economy. However, rural transportation networks face unique challenges in safety, usage, and condition.¹ Despite only 20 percent of the U.S. population living in rural areas,² rural roads account for 68 percent of our nation's total lane miles, including nearly half of all truck vehicle miles traveled.³ Moreover, 41 percent of all roadway fatalities occur on rural roads, where the fatality rate is 1.54 times higher than on urban roads.⁴ The condition of transportation infrastructure varies between urban and rural areas; for example, rural bridges that are closed or posted require American travelers to make detours nearly twice as long as those necessitated by their urban counterparts.⁵ Delays can also occur due to trains going over public at-grade crossings—60 percent of which are on rural roads.⁶

¹ Bureau of Transportation Statistics, Rural Transportation Statistics, March 2025, https://www.bts.gov/rural.

² United States Census Bureau, American Community Survey (ACS), 5-Year Estimates, 2022.

³ U.S. Department of Transportation, Federal Highway Administration, Office of Highway Information Management, Highway Statistics 2022, Table HM-60.

⁴ National Center for Statistics and Analysis. Rural/urban traffic fatalities: 2023 data (Traffic Safety Facts. Report No. DOT HS 813 728), June 2025. National Highway Traffic Safety Administration.

⁵ U.S. Department of Transportation, Federal Highway Administration, National Bridge Inventory (NBI).

⁶ U.S. Department of Transportation, Federal Highway Administration and Federal Railroad Administration. Highway-Rail Crossing Handbook, 3rd Edition. July 2019.

In response to these challenges, ROUTES was established in October 2019 with DOT Order 5050.1 and codified in Section 25010 of the Infrastructure Investment and Jobs Act in November 2021 to support the needs of rural America by advancing rural transportation policy. ROUTES addresses rural transportation infrastructure needs by developing user-friendly tools and information, aggregating DOT resources, and providing direct technical assistance to connect rural communities with the funding, financing, and outreach resources available. Specifically, ROUTES is directed to (1) improve analysis of projects from rural and Tribal communities applying for Department grants, including ensuring that project costs, local resources, and the larger benefits to the people and the economy of the United States are appropriately considered; and (2) provide rural and Tribal communities with technical assistance for meeting the transportation infrastructure investment needs of the United States in a financially sustainable manner.

ROUTES is actively engaged with rural and Tribal communities through outreach, technical assistance, and resource and policy development. On November 27, 2019, ROUTES published a notice ⁷ requesting information to improve technical assistance for rural stakeholders applying for DOT competitive grant and credit programs. In response to comments received to the notice and other stakeholder feedback regarding grant applications, ROUTES developed the Rural Grant Applicant Toolkit ⁸ to increase understanding of DOT competitive grant programs and the Federal funding process. Additionally, ROUTES launched the DOT Competitive Grants Dashboard ⁹ to help users determine which grants best suit their transportation infrastructure needs. To address safety concerns raised by stakeholders, ROUTES facilitated rural safety peer exchanges, supported development of rural safety countermeasures ¹⁰ to promote information sharing and capacity building, and established the internal USDOT Safety Council—Rural Subcommittee to coordinate activities and information among modal administrations that advance rural transportation safety. See https://www.transportation.gov/rural for more information on ROUTES activities.

⁷ 84 FR 65459; Docket No. DOT-OST-2019-0167.

⁸ Visit the Rural Grant Applicant Toolkit at https://www.transportation.gov/rural/grant-toolkit.

⁹ Visit the DOT Competitive Grants Dashboard at https://www.transportation.gov/grants/dashboard.

¹⁰ In support of the USDOT Safety Council—Rural Subcommittee, the National Highway Traffic Safety Administration and the Federal Highway Administration developed a compilation of safety countermeasures for stakeholders looking to address challenges in rural road safety. These resources are available at https://www.transportation.gov/rural/safety.

To continue providing the best technical assistance possible, ROUTES is again requesting information from rural stakeholders on rural issues and needs.

Request for Information

In this notice, DOT requests information directly from knowledgeable entities and the public to inform rural transportation policy and the development of future ROUTES activities. DOT seeks comments that illustrate rural communities' needs and experiences with transportation infrastructure, including the condition of that infrastructure, its effect on safety and road user behavior, and how its use affects the community. For the purpose of this notice, “transportation” includes road, rail, transit, aviation, maritime, pipelines, and other forms of transportation; “infrastructure” includes all capital investment in transportation such as structures, equipment, and rolling stock. This includes comments and data pertaining to current unmet needs in rural transportation, barriers rural communities face in addressing these transportation needs, stakeholders' experiences with applying to and using DOT competitive grant and credit programs, and opportunities for DOT to improve its services and technical assistance to rural communities within the limits of statutory requirements. This request for comments includes solicitation from Tribal Nations and communities in rural areas.

In addition, DOT specifically requests comments and data in response to the questions below. To the extent possible, DOT seeks relevant technical information, regulatory citations, data, or other evidence to support the comments received.

A. Identifying Unmet Needs in Rural Transportation

1. What challenges and opportunities do rural areas face related to the following:

(a) infrastructure condition (e.g., age of infrastructure or equipment, bridge closures or postings, weather resiliency);

(b) usage (e.g., frequency or availability of public transportation, freight transportation, pedestrian walkways and shoulders);

(c) safety (e.g., transportation-related injuries and fatalities, roadway departure, at-grade rail crossings, railroad trespassing, wildlife, transportation of hazardous materials, motorcycle and all-terrain vehicle safety, experiences of nonmotorized road users, post-crash care);

(d) technology (e.g., broadband, cellular coverage, backup for GPS time and navigation, automated vehicles, drones, digital infrastructure);

2. What types of infrastructure projects, services, or technology are most needed in rural communities to meet national transportation priorities such as safety and economic competitiveness? What types of projects or services do rural communities find most challenging to fund? What are barriers to funding these projects?

3. How could improved multimodal passenger and freight transportation—including road, rail, transit, aviation, maritime, pipelines, and other forms of transportation—better contribute to the economic competitiveness of rural communities? What industries (including tourism) are most in need of these improvements?

4. What data has been used to inform rural transportation decision making and grant development, and what additional data would have been helpful but was nonexistent or difficult to access?

5. How can rural communities better engage with Federal, Tribal, State, and regional entities—such as other Federal agencies, State DOTs, regional planning organizations, and metropolitan planning organizations—to maintain and upgrade local transportation?

B. Addressing Unmet Needs Through DOT Grants and Resources

1. ROUTES supports rural and Tribal stakeholders through development of technical assistance resources and opportunities, such as toolkits, dashboards, peer exchanges, webinars, and newsletters. (See https://www.transportation.gov/rural for more information on ROUTES activities.) What additional resources or direct technical assistance could ROUTES provide to support rural communities? Of the existing resources ROUTES provides, what is most useful?

2. What challenges do rural communities face when applying for DOT grants and financial assistance (e.g., project prioritization, eligibility requirements, data needs, funding match)? What challenges do rural communities encounter after being awarded a DOT grant or financial assistance (e.g., project grant agreements, environmental analyses, permitting, reporting requirements, workforce availability, weather, inflation)?

3. What types of technical assistance would be effective for navigating the Federal grant process, including pre-award activities, project delivery, and project evaluation?

4. How do the definitions of “rural” across DOT grant programs ¹¹ reflect the reality of rural communities? How do these definitions influence the allocation of rural funding?

¹¹ The definition of “rural” varies across the Department. ROUTES developed the Rural Eligibility Map to help prospective applicants determine eligibility. The map is available at https://www.transportation.gov/rural/eligibility.

Public Comment

DOT invites comments from knowledgeable entities and the public interested in rural transportation policy and ROUTES activities. Comments may be submitted and viewed at Docket Number DOT-OST-2026-0298 at http://www.regulations.gov, or at the address given above under ADDRESSES. Comments must be received on or before 60 days from posting of this notice to receive full consideration by DOT. After 60 days from posting of this notice, comments will continue to be available for viewing by the public.

Issued in Washington, DC, on February 19, 2026, under authority delegated at 49 CFR 1.25(a).
Loren A. Smith, Jr.,
Deputy Assistant Secretary of Transportation for Policy.

[FR Doc. 2026-03496 Filed 2-20-26; 8:45 am]

BILLING CODE 4910-9X-P